DEPARTMENT OF TRANSPORTATION

Surface Transportation Board

[Docket No. AB 1000 (Sub-No. 3X); Docket No. AB 290 (Sub-No. 369X)]

Georgia Southwestern Railroad, Inc.—Discontinuance of Service Exemption—in Schley and Sumpter Counties, Ga.; Central of Georgia Railroad Company—Discontinuance of Service Exemption—in Schley and Sumpter Counties, Ga

Central of Georgia Railroad Company (CGA) and Georgia Southwestern Railroad, Inc. (GSWR) (collectively, applicants) have jointly filed a verified notice of exemption under 49 CFR part 1152 subpart F—Exempt Abandonments and Discontinuances of Service for each carrier to discontinue service over a 16.5 mile portion of rail line known as the Ellaville line between milepost 45.0 near Ellaville, Schley County, Ga., and milepost 61.5 near Americus, Sumpter County, Ga. (the Line). Applicants state that the Line is a remaining portion of a CGA-owned rail line extending between Ochillee and Americus, Ga., that is leased to GSWR. The Line traverses United States Postal Service Zip Codes 31719 and 31806.

Applicants have certified that: (1) No local traffic has moved over the Line for at least two years; (2) no overhead traffic has moved over the Line for at least two years and overhead traffic, if any, could be transported over other rail routes; (3) no formal complaint filed by a user of rail service on the Line (or by a state or local government entity acting on behalf of such user) regarding cessation of service over the Line either is pending with the Surface Transportation Board or with any U.S. District Court or has been decided in favor of complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on November 18, 2014, unless stayed pending reconsideration. Petitions to stay that do not involve environmental issues and formal expressions of intent to file an OFA to subsidize continued rail service under 49 CFR 1152.27(c)(2) ¹ must be filed by October 27, 2014.² Petitions to reopen must be filed by November 6, 2014, with the Surface Transportation Board, 395 E Street SW., Washington, DC 20423-0001.

¹ Each OFA must be accompanied by the filing fee, which is currently set at $1,600. See 49 CFR 1002.2(f)(25).

² Because applicants are seeking to discontinue service, not to abandon the line, trail use/rail banking and public use conditions are not appropriate. Likewise, no environmental or historic documentation is required here under 49 CFR 1105.6(c) and 49 CFR 1105.8(b), respectively.

A copy of any petition filed with the Board should be sent to applicants' representatives: For CGA, William A. Mullins, Baker & Miller PLLC, 2401 Pennsylvania Ave. NW., Suite 300, Washington, DC 20037; for GSWR, Eric M. Hocky, Clark Hill PLC, One Commerce Square, 2005 Market Street, Suite 1000, Philadelphia, PA 19103.

If the notice contains false or misleading information, the exemption is void ab initio.

Board decisions and notices are available on our Web site at “WWW.STB.DOT.GOV.”

Decided: October 14, 2014.
By the Board, Rachel D. Campbell, Director, Office of Proceedings.
Brendetta S. Jones,
Clearance Clerk.

[FR Doc. 2014-24731 Filed 10-16-14; 8:45 am]

BILLING CODE 4915-01-P